DEPARTMENT OF EDUCATION

Notice of Proposed Information Collection Requests

AGENCY: Department of Education.

SUMMARY: The Acting Director, Information Collection Clearance Division, Regulatory Information Management Services, Office of Management, invites comments on the proposed information collection requests as required by the Paperwork Reduction Act of 1995.

DATES: Interested persons are invited to submit comments on or before July 6, 2010.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: May 3, 2010.
Stephanie Valentine,
Acting Director, Information Collection Clearance Division, Regulatory Information Management Services, Office of Management.

Institute of Education Sciences

Type of Review: New.

Title: Common Core of Data—Teacher Compensation Survey (TCS): 2010-2013.

Frequency: Annually.

Affected Public: State, Local, or Tribal Gov't, SEAs or LEAs.

Reporting and Recordkeeping Hour Burden:

Responses: 30.

Burden Hours: 2,580.

Abstract: National data on teachers are limited to periodic sample surveys or to simple counts at the district or school level. In response to the need for individual teacher-level data, the National Center for Education Statistics (NCES) developed the Teacher Compensation Survey (TCS), an administrative records survey that collects total compensation, teacher status, and demographic data about individual teachers from multiple states. In 2007, NCES launched the pilot TCS data collection, with seven states volunteering to provide administrative records for school year (SY) 2005-06. In the second year of the data collection, the TCS expanded to 17 states reporting SY 2006-07 data. The information collected from these records included base salary, total salary, benefits, highest level of education, years of teaching experience, gender, and race/ethnicity for each teacher. The TCS file can be merged with the Common Core of Data (CCD) Public Elementary/Secondary School Universe Survey file to obtain such school information as school type, operational status, locale code, number of students eligible for free and reduced-price lunch, student enrollment by grade, race/ethnicity, and gender, and pupil/teacher ratio. NCES will continue to request data from more states and to make the data more comparable across states. It is anticipated that up to thirty-five states will volunteer to participate in the TCS from 2010 to 2013.

Requests for copies of the proposed information collection request may be accessed from http://edicsweb.ed.gov, by selecting the “Browse Pending Collections” link and by clicking on link number 4288. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-10712 Filed 5-5-10; 8:45 am]

BILLING CODE 4000-01-P